DEPARTMENT OF AGRICULTURE

Forest Service

Oregon Coast Provincial Advisory Committee Meeting

AGENCY: Forest Service, USDA.

ACTION: Notice of meeting.

SUMMARY: The Oregon Coast Provincial Advisory Committee (PAC) will meet on May 25, 2000, at the Siuslaw National Forest, 4077 S.W. Research Way, Corvallis, Oregon. This is a change from the date of April 27, 2000, originally announced in the Federal Register, April 3, 2000 (Vol. 65, Number 64, page 17483). As stated in the original notice, the meeting time is 9:00 a.m. until 3:30 p.m. and all agenda items remain the same.

Interested citizens are encouraged to attend. The committee welcomes the public's written comments on committee business at any time.

FOR FURTHER INFORMATION CONTACT: Joni Quarnstrom, Public Affairs Specialist, Siuslaw National Forest, 541-750-7075, or write to the Forest Supervisor, Siuslaw National Forest, P.O. Box 1148, Corvallis, Oregon 97339.

Dated: April 13, 2000.
Jose L. Linares,
Acting Forest Supervisor.

[FR Doc. 00-9736 Filed 4-18-00; 8:45 am]

BILLING CODE 3410-11-M